DEPARTMENT OF JUSTICE

Notice of Lodging of Proposed Consent Decree Under The Comprehensive Environmental Response, Compensation, and Liability Act

On January 9, 2017, the Department of Justice lodged a proposed Consent Decree with the United States District Court for the Eastern District of Virginia in the lawsuit entitled United States and Commonwealth of Virginia v. Persimmon Lane, LLC, a Virginia limited liability company, Civil Action No. 1:17-cv-00017-CMH-IDD.

The Consent Decree resolves claims against Persimmon Lane, LLC (“Persimmon Lane”) arising under the Comprehensive Environmental Response, Compensation, and Liability Act relating to the Hidden Lane Landfill Superfund Site, located near the community of Sterling in Loudoun County, Virginia. Under the Consent Decree, Defendant will endeavor to sell the Site property and distribute the proceeds of any sale(s) according to a tiered breakdown between the United States, the Commonwealth of Virginia, and Persimmon Lane, LLC. The proposed Consent Decree will resolve all CERCLA claims alleged in this action by the United States against Defendant. Defendant has an inability to pay the United States' full demand.

The publication of this notice opens a period for public comment on the Consent Decree. Comments should be addressed to the Assistant Attorney General, Environment and Natural Resources Division, and should refer to United States and Commonwealth of Virginia v. Persimmon Lane, LLC, a Virginia limited liability company, D.J. Ref. No. 90-11-3-10986. All comments must be submitted no later than 45 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $40.25 (25 cents per page reproduction cost) payable to the United States Treasury. For a paper copy without the exhibits and signature pages, the cost is $10.50.

Jeffrey Sands,
Assistant Section Chief, Environmental Enforcement Section, Environment and Natural Resources Division.

[FR Doc. 2017-00618 Filed 1-12-17; 8:45 am]

BILLING CODE 4410-15-P